DEPARTMENT OF COMMERCE

International Trade Administration

[A-570-862]

Final Results of Antidumping Administrative Review: Foundry Coke From the People's Republic of China

AGENCY: Import Administration, International Trade Administration, U.S. Department of Commerce.

ACTION: Notice of final results in the antidumping duty administrative review of foundry coke from the People's Republic of China.

SUMMARY: The Department of Commerce (“Department”) is conducting an administrative review of the antidumping duty order on foundry coke from the People's Republic of China (“PRC”) in response to requests from ABC Coke, Citizens Gas & Coke Utility, Erie Coke Corporation, Sloss Industries Corporation, and Tonawanda Coke Corporation (collectively, “Domestic Producers” or “Petitioners”). The period of review (“POR”) is from March 8, 2001, through August 31, 2002.

We received no comments on the preliminary results, and we have made no changes in our analysis. Therefore, the final results do not differ from the preliminary results. The final weighted-average dumping margin for the reviewed firm is listed below in the section entitled “Final Results of the Review.”

EFFECTIVE DATE: January 28, 2004.

FOR FURTHER INFORMATION CONTACT: Michael Holton, Office of AD/CVD Enforcement 9, Import Administration, International Trade Administration, U.S. Department of Commerce, 14th Street and Constitution Avenue, NW., Washington, DC 20230; telephone: (202) 482-1324.

Background

On October 7, 2003, the Department published in the Federal Register the preliminary results of its administrative review of the antidumping duty order on foundry coke from the People's Republic of China. See Notice of Preliminary Results of Antidumping Duty Administrative Review: Foundry Coke from the People's Republic of China, 68 FR 57869 (October 7, 2003) (“Preliminary Results”). We invited parties to comment on our preliminary results of the administrative review. No party submitted comments on our preliminary results. We have now completed the administrative review in accordance with section 751(a) of the Tariff Act of 1930, as amended (“the Act”).

Scope of Review

For purposes of this investigation, the product covered is coke larger than 100 mm (4 inches) in maximum diameter and at least 50 percent of which is retained on a 100-mm (4 inch) sieve, of a kind used in foundries.

The foundry coke products subject to this investigation were classifiable under subheading 2704.00.00.10 (as of January 1, 2000) and are currently classifiable under subheading 2704.00.00.11 (as of July 1, 2000) of the Harmonized Tariff Schedule of the United States (“HTSUS”). Although the HTSUS subheadings are provided for convenience and U.S. Customs and Border Protection (“CBP”) purposes, our written description of the scope of this investigation is dispositive.

Analysis of Comments Received

Because no interested party submitted comments, the Department hereby adopts all findings from the Preliminary Results in these final results.

Final Results of Review

As a result of the application of adverse facts available, we determine that the following percentage dumping margin exists for the period March 8, 2001, through August 31, 2002.

Producer/manufacturer/exporter | Weighted-average margin (percent)
CITIC Trading Company, Ltd | 214.89

The Department shall determine, and CBP shall assess, antidumping duties on all appropriate entries. The Department will issue appraisement instructions directly to CBP. In accordance with 19 CFR 351.212(b), we have calculated exporter/importer-specific assessment rates. We will direct CBP to assess the resulting percentage margin against the entered CBP values for the subject merchandise on the importer's entries under the relevant order during the review period (see 19 CFR 351.212(b)(1)).

Cash Deposit Requirements

The following cash-deposit requirements will be effective upon publication of this notice of final results of this administrative review for all shipments of the subject merchandise entered, or withdrawn from warehouse, for consumption on or after the publication date, as provided for by section 751(a)(2)(C) of the Act: (1) The cash deposit for the reviewed company will be the rate shown above; (2) for all previously investigated companies which have a separate rate, the cash-deposit rates will continue to be the company specific rates published for the most recent period; (3) for all other PRC exporters, including CITIC, the cash-deposit rate will be the PRC countrywide rate, which is 214.89 percent; and (4) for all non-PRC exporters of subject merchandise, the cash-deposit rate will be the rate applicable to the PRC exporter that supplied that exporter. These deposit requirements, when imposed, shall remain in effect until publication of the final results of the next administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 777(i)(1) of the Act.

Dated: January 22, 2004.
James J. Jochum,
Assistant Secretary for Import Administration.

[FR Doc. 04-1832 Filed 1-27-04; 8:45 am]

BILLING CODE 3510-DS-P